DEPARTMENT OF DEFENSE

Department of the Army, Corps of Engineers

Intent To Prepare a Draft Environmental Impact Statement for the Proposed Excelsior Estates Project in Sacramento County, CA, Corps Permit Application Number SPK-2004-00790

AGENCY: Department of the Army, U.S. Army Corps of Engineers, DOD.

ACTION: Notice of Intent.

SUMMARY: The U.S. Army Corps of Engineers, Sacramento District, (Corps) received a complete Department of the Army permit application from Tsakopoulos Investments (applicant) to fill 39.81 acres of waters of the United States to construct the proposed Excelsior Estates Project in Sacramento County, CA, in June 2010. The Corps, as the lead agency responsible for compliance with the National Environmental Policy Act (NEPA), determined that the proposed project may result in significant impacts to the environment, and that the preparation of an Environmental Impact Statement (EIS) is required.

The applicant proposes to construct a mixed-use community including residential, commercial, office, schools, parks and open space land uses. The residential component of the proposed community would include approximately 4,400 single- and multi-family units, varying in density. The proposed project would also involve 57 acres of commercial and office uses, as well as two elementary schools and a combined middle school and high school on 102 acres. A proposed community park would be constructed on 20 acres and three neighborhood parks would be constructed on 31 acres. The proposed project would also involve the preservation of 123 acres on the eastern portion of the site, containing Morrison Creek and adjacent wetlands. The applicant also proposes to construct approximately 30 acres of drainageways and greenbelts. Finally, the proposed project would involve the construction of on-site and off-site infrastructure, consisting of roads and utility lines, including road extensions along Keifer Boulevard, Excelsior Road and the Jackson Highway.

The project site is approximately 862 acres and contains 39.81 acres of waters of the U.S. In addition, the site also contains 13.61 acres of isolated, intrastate waters that are not subject to Corps jurisdiction, which may contain suitable habitat for Federally listed threatened and/or endangered species. The proposed project would involve the discharge of fill material into approximately 28.77 acres of waters of the United States, and the preservation of 11.04 acres of waters of the U.S. The proposed project would also involve the placement of fill material into 13.61 acres of isolated waters. The proposed project may also have indirect impacts on other waters of the U.S.

DATES: The Corps will conduct a public scoping meeting that will be held on Wednesday, November 2, 2011 from 5 p.m. to 7 p.m.

ADDRESSES: The scoping meeting will be held at Rancho Cordova City Hall, located at 2729 Prospect Park Drive, Rancho Cordova, CA 95670.

FOR FURTHER INFORMATION CONTACT: Ms. Lisa Gibson, (916) 557-5288, e-mail: lisa.m.gibson2@usace.army.mil.

SUPPLEMENTARY INFORMATION: Interested parties are invited to submit written comments on the permit application on or before December 13, 2011. Scoping comments should be submitted within the next 60 days, but may be submitted at any time prior to publication of the Draft EIS. To submit comments on this notice or for questions about the proposed action and the Draft EIS, please contact: Lisa M. Gibson, U.S. Army Corps of Engineers, 650 Capitol Mall, Suite 5-200, Sacramento, CA 95814-4708. Parties interested in being added to the Corps' electronic mail (e-mail) notification list for the proposed project can e-mail a request to spk-regulatory-info@usace.army.mil and indicate which list you would like your e-mail address to be added. Please refer to Identification Number SPK-2004-00790 in any correspondence.

The proposed Excelsior Estates Project site is located in unincorporated eastern Sacramento County. The site is bordered on the north by Keifer Boulevard, on the south by Jackson Highway and on the west by Excelsior Road. The proposed project site is located within portions of Sections 23, 24, 25 and 26, Township 8 North, Range 6 East, Latitude 38.52393° North, Longitude 121.27833° West, Mount Diablo Meridian.

Approximately 39.81 acres of waters of the United States are present within the proposed project area. These waters include 21.99 acres of vernal pools, 5.27 acres of seasonal wetlands, 11.08 acres of perennial marsh, 1.19 acres of intermittent drainage, including Morrison Creek, and 0.28 acres of ditches. These areas are subject to the Corps' jurisdiction. The site also contains 13.61 acres of isolated aquatic habitat, which are not subject to Corps jurisdiction but will be evaluated in the EIS, including 5.80 acres of vernal pools, 2.51 acres of seasonal wetlands, 0.23 acres of ephemeral drainage, a 5.04 acre stock pond and 0.03 acres of ditches. Approximately 630 acres of the 862 acre project site has been designated by the U.S. Fish and Wildlife Service (USFWS) as critical habitat for the Federally listed vernal pool fairy shrimp (Branchinecta lynchi), vernal pool tadpole shrimp (Lepidurus packardi), Sacramento Orcutt grass (Orcuttia viscida) and slender Orcutt grass (Orcuttia tenuis).

The EIS will include alternatives to the Proposed Action that will meet NEPA requirements for a reasonable range of alternatives, and will also meet the requirements of CWA Section 404(b)(1) Guidelines. The alternatives to be evaluated within the EIS have not yet been developed, but will, at a minimum, include the No Action Alternative, the Proposed Project Alternative, additional on-site alternatives, and off-site alternatives.

Sacramento County will be the lead agency responsible for compliance with the California Environmental Quality Act (CEQA) and will prepare an Environmental Impact Report (EIR). The Corps is anticipating that Sacramento County will agree to develop a joint EIS/EIR with the Corps.

The Corps' public involvement program includes several opportunities to provide verbal and written comments on the proposed Excelsior Estates Project through the EIS process. Affected federal, state, and local agencies, Native American tribes, and other interested private organizations and parties are invited to participate. Potentially significant issues to be analyzed in depth in the EIS include loss of waters of the United States (including wetlands), and impacts related to cultural resources, biological resources, including Federally listed threatened and/or endangered species, air quality, hydrology and water quality, noise, traffic, aesthetics, utilities and service systems, and socioeconomic effects.

The Corps will initiate formal consultation with the USFWS under Section 7 of the Endangered Species Act for impacts to listed species that may result from the proposed project. The Corps will also consult with the State Historic Preservation Office under Section 106 of the National Historic Preservation Act for properties listed or potentially eligible for listing on the National Register of Historic Places, as appropriate.

The Draft EIS is expected to be made available to the public in the summer of 2012.

September 16, 2011.
William J. Leady,
Colonel, U.S. Army District Engineer.

[FR Doc. 2011-26587 Filed 10-13-11; 8:45 am]

BILLING CODE 3720-58-P